DEPARTMENT OF LABOR

Employment and Training Administration

[TA-W-72,851]

General Motors Corporation Milford Proving Grounds Including On-Site Leased Workers From Adroit Software & Consulting, Inc., Aerotek Professional Services, Inc., Aerotek, Inc., Ajilon Consulting (IS&S), Altair Engineering, Inc., Applied Computer Solutions, Inc., The Bartech Group, CDI Professional Services, Engineering Labs, Inc., Global Technology Associates, LTD., IAV Automotive Engineering, Inc., Infotrieve, Inc., Kelly Service, Inc., Populus Group, RCO Engineering, Inc., TEK Systems, Teledata Technology Solutions, WIPRO, Inc. and Hewlett Packard (HP) FKA EDS, Global Product Development, Non-IT Business Development and Engineering Application Support Teams Milford, MI; Amended Certification Regarding Eligibility To Apply for Worker Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on June 23, 2010, applicable to workers of General Motors Corporation, Milford Proving Grounds, Milford, Michigan. The notice was published in the Federal Register on July 7, 2010 (75 FR 39046).

The workers supply support services related to the production of automobiles, such as quality, reliability, and durability testing. The subject worker group includes on-site leased workers from various temporary staffing agencies.

New information provided in another investigation shows that workers of the Non-IT Business Development Team and the Engineering Applications Support Team of the Global Product Development division of Hewlett Packard, formerly known as EDS, were employed on-site at General Motors Corporation, Milford Proving Grounds, Milford, Michigan during the relevant period. Based on this new information, the Department reviewed the certification of TA-W-72,851.

The intent of the Department's certification is to include all workers at the subject firm who were adversely affected by increased U.S. aggregate imports of articles like or directly competitive with automobiles produced by General Motors Corporation, Milford, Michigan.

The Department has determined that the workers of Hewlett Packard formerly known as EDS, Global Product Development, Non-IT Business Development Team and Engineering Applications Support Team, were sufficiently under the control of General Motors, Milford Proving Grounds, Milford, Michigan, during the relevant period and are, therefore, part of the subject worker group.

Based on these findings, the Department is amending this certification to include on-site leased workers from Hewlett Packard, formerly known as EDS, Global Product Development, Non-IT Business Development Team and Engineering Applications Support Team, Milford, Michigan.

The amended notice applicable to TA-W-72,851 is hereby issued as follows:

All workers of General Motors Corporation, Milford Proving Grounds, including on-site leased workers from Adroit Software & Consulting, Inc., Aerotek Professional Services, Inc., Aerotek, Inc., Ajilon Consulting (IS&S), Altair Engineering, Inc., Applied Computer Solutions, Inc., The Bartech Group, CDI Professional Services, Engineering Labs, Inc., Global Technology Associates, LTD., IAV Automotive Engineering, Inc., Infotrieve, Inc., Kelly Service, Inc., Populus Group, RCO Engineering, Inc., Tek Systems, Teledata Technology Solutions, Wipro, Inc. and Hewlett Packard formerly known as EDS, Global Product Development, Non-IT Business Development Team and Engineering Applications Support Team, Milford, Michigan, who became totally or partially separated from employment on or after October 20, 2008 through June 23, 2012, are eligible to apply for adjustment assistance under Section 223 of the Trade Act of 1974, and are also eligible to apply for alternative trade adjustment assistance under Section 246 of the Trade Act of 1974.

Signed in Washington, DC, this 2nd day of February, 2011.
Del Min Amy Chen,
Certifying Officer, Office of Trade Adjustment Assistance.

[FR Doc. 2011-2968 Filed 2-9-11; 8:45 am]

BILLING CODE 4510-FN-P